DEPARTMENT OF ENERGY

Federal Energy Regulatory Commission

[Project No. 2552-058]

Notice of Scoping Meetings and Site Visit and Solicitation of Scoping Comments

October 23, 2002.

Take notice that the following hydroelectric application has been filed with Commission and are available for public inspection:

a. Type of Application: License Surrender for the Fort Halifax Project.

b. Project No.: 2552-058.

c. Date filed: June 20, 2002.

d. Applicant: FPL Energy Maine Hydro LLC (FPL).

e. Name of Project: Fort Halifax Project.

f. Location: The project is located on the Sebasticook River, in Kennebec County, Maine.

g. Filed Pursuant to: Federal Power Act 16 U.S.C. 791(a) 825(r) 799 and 801.

h. Applicant Contact: F. Allen Wiley, FPL Energy Maine Hydro LLC, 160 Capitol Street, Augusta, ME 04330, (207) 623-8413.

i. FERC Contact: Any questions on this notice should be addressed to either Mrs. Jean Potvin at (202) 502-8928, or e-mail address: jean.potvin@ferc.gov or Mr. Robert Fletcher at (202) 502-8901, or e-mail address: robert.fletcher@ferc.gov.

j. Deadline for filing scoping comments: November 15, 2002.

All documents (original and eight copies) should be filed with: Magalie R. Salas, Secretary, Federal Energy Regulatory Commission, 888 First Street, NE., Washington, DC 20426. Please include the project number (P-2552-058) on any comments or motions filed.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. See 18 CFR 385.2001(a)(1)(iii) and the instructions on the Commission's web site (http://www.ferc.gov) under the “e-Filing” link.

k. Description of the Project: FPL proposes to surrender the license for the Fort Halifax Project. As part of its request, FPL proposes to remove a 72-foot section of the spillway to provide permanent fish passage. The remainder of the dam will remain intact. The partial removal of the dam will result in a lowering of the Fort Halifax impoundment directly upstream of the dam by as much as 25 feet. The partial dam removal will make an additional 5.2 miles of riverine habitat available to anadromous fish using the Kennebec River drainage system.

l. A copy of the application is on file with the Commission and is available for public inspection. This filing may also be viewed on the web at http://www.ferc.gov using the “RIMS” link—select “Docket #” and follow the instructions (call 202-502-8222 for assistance). A copy is also available for inspection and reproduction at the address in item h. above.

m. Scoping Process: The Commission intends to prepare an Environmental assessment (EA) on the project in accordance with the National Environmental Policy Act. The EA will consider both site-specific and cumulative environmental impacts and reasonable alternatives to the proposed action. As a result of the Commissions July 7, 2002 public notice requesting comments on the application, numerous filings were made raising a variety of issues related to the project. Commission staff will conduct a scoping meeting to receive additional information on the issues raised these filings.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA.

The times and locations of these meetings are as follows:

Agency Scoping Meeting

Date: Thursday, November 7, 2002.

Time: 10 am to 12 noon.

Place: Elks 905 Banquet & Conference Center.

Address: 76 Industrial Park Road, Waterville, ME.

Public Scoping Meeting

Date: Thursday, November 7, 2002.

Time: 7 pm to 9 pm.

Place: Same location as for the Agency Meeting.

Address: Same address as for the Agency Meeting.

Site Visit

The Applicant and FERC staff will conduct a site visit of the project on November 6, 2002, between 1:30 pm and 3:30 pm. All interested individuals, organizations, and agencies are invited to attend. All participants should meet at the project for a short overview of the hydro operations. Participants in the site visit will need to provide their own transportation. All participants are responsible for their own transportation to the site.

Objectives

At the scoping meetings, the staff will: (1) Summarize the environmental issues tentatively identified for analysis in the EA based on comments received to date; (2) solicit from the meeting participants additional information, especially quantifiable data, on the resources at issue; (3) encourage statements from experts and the public on issues that should be analyzed in the EA; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Linwood A. Watson, Jr.,
Deputy Secretary.

[FR Doc. 02-27457 Filed 10-28-02; 8:45 am]

BILLING CODE 6717-01-P